DEPARTMENT OF COMMERCE

Foreign-Trade Zones Board

[B-67-2017]

Foreign-Trade Zone (FTZ) 26—Atlanta, Georgia; Notification of Proposed Production Activity Kubota North America Corporation (Agricultural and Specialty Vehicles) Jefferson and Gainesville, Georgia

Kubota North America Corporation (Kubota) submitted a notification of proposed production activity to the FTZ Board for its facilities in Jefferson and Gainesville, Georgia. The notification conforming to the requirements of the regulations of the FTZ Board (15 CFR 400.22) was received on November 15, 2017.

Kubota facilities are located within Subzone 26P. The facilities are used for the production of gasoline and diesel-powered agricultural and specialty vehicles such as backhoes, front loaders, skid steer loaders, lawn tractors and lawn mowers, sub-compact tractors and work utility vehicles. Pursuant to 15 CFR 400.14(b), FTZ activity would be limited to the specific foreign-status materials and components and specific finished products described in the submitted notification (as described below) and subsequently authorized by the FTZ Board.

Production under FTZ procedures could exempt Kubota from customs duty payments on the foreign-status materials/components used in export production (estimated 20 percent of production). On its domestic sales, for the foreign-status materials/components noted below, Kubota would be able to choose the duty rates during customs entry procedures that apply to: Cabin tool box kits; heat, water, and sound insulation kits; weather strip kits; product catalogs; replacement glass and glass assemblies; mirror kits; drain kits; tool box kits; key assemblies; radio mounting kits; gas and diesel replacement engines; hydraulic cylinder assemblies; gas and diesel engine repair kits; gas, oil, water filters, and filter and pump assemblies; liquid applicator attachments; sprayer attachment for tractors; self-propelled trucks; load-lifting equipment; bulldozers; graders; tamping machines; front-end loaders; excavators and backhoes; gas and diesel tractors; snowplows; front end loader buckets; extension blade kits; backhoe cab conversion kits; rotary tillers; riding mowers; disc mowers; haymaking equipment; farm implement repair kits; hydraulic valves and valve kits; transmission repair kits; alternator kits; work light kits; horn kits; rear defoggers; engine diagnostic software; radio cassette players; LCD monitors; travel alarm kits; remote hitch switches; trailer kits; connector assemblies; vehicle control units; wire harnesses; gas and diesel tractors for agricultural use; gas and diesel work utility vehicles; tractor bodies; gear boxes for agricultural tractors and other off-road vehicles; roll-over protection systems; brake kits; transmission rework kits; drive axles, clutches, driveshaft assemblies and parts; wheels and wheel and tire assemblies; steering kits; drive train repair parts for work utility vehicles; cruise control kits; instructor seats with seat belts and, arm rest kits (duty-free to 7.8%). Kubota would be able to avoid duty on foreign-status components which become scrap/waste. Customs duties also could possibly be deferred or reduced on foreign-status production equipment.

The materials/components sourced from abroad include: Oil and grease; glues and adhesives for vehicle assembly; antiknock fluids; reinforced and unreinforced tubes and hoses with and without fittings for vehicle assembly; pipe fittings and switches for vehicle assembly; adhesive tapes; sound and water absorbers; insulators for use in vehicle assembly; plastic boxes; plastic bags; plastic bottles; caps for use in vehicle assembly; plastic buckets; plastic bolts; plastic handles and knobs; rubber O-rings; rubber gaskets; rubber seals; rubber rods; hoses and belts for use in gas and diesel vehicle assembly; tires for agricultural tractors and other off-road vehicles; inner tubes for agricultural tractors and other off-road vehicles; sleeves and abrasives; rubber tractor parts; tool cases for tractors; wood cases for tractor tools and parts; safety, warning, and identification labels; printed instructions; warranty certificates; instruction manuals; drawings and schematics; paper for printed instructions; brake linings; friction materials; gaskets, including gaskets with flanges; molded and safety glass parts; framed and unframed mirror glass assemblies; lenses and lens covers; fiberglass insulation; steel bars; galvanized steel tubes; stainless steel tubes; iron, steel, and base metal tubes and pipes; iron, steel, and base metal pipe fittings; adapter assemblies; couplers; structural steel; steel containers; steel enclosures; steel cables; steel chain and chain parts; iron, steel, and stainless steel bolts, studs, screws, nuts, washers, rivets, clips, keys, and pins; springs; cast iron parts; shims; hose fittings; brass plates; copper tubing; slide rings and eye joints; packing and packing nuts for fluid containments in agricultural tractors and other off-road vehicles; copper and brass washers and other fasteners for agricultural tractors and other off-road vehicles; adapters and spacers; oil cooler connectors; intake screens; copper wire; slip joint pliers; open end wrenches; hammers; steel hand tools; clamps for inclusion in tool boxes for tractors; tool boxes for tractor tool kits; blades for agricultural tractors and tractor implements; locks, lock parts, and lock assemblies for vehicles; hinges and brackets; handles; levers and brackets; lock brackets, and bracket assemblies; door dampers; steel flex tubing; plugs; nameplates for agricultural tractors and other off-road vehicles; gas and diesel engines; dynamos; fuel tank caps; connecting rods and connecting rod assemblies; rocker arms and rocker arm assemblies; push rods; pistons; exhaust manifolds; intake manifolds; carburetors; carburetor assemblies and subassemblies; intake valves; exhaust valves; throttle body assemblies; piston rings; spark plug caps; chain guides; oil dipstick guides; oil dipsticks; crankshafts and crankshaft shims; cylinder heads; water pumps; cylinder liners; tensioners; brackets; housings; rotors; flyweight governors; bearing case covers; bearing holders; crankcases; vaporizer assemblies; crankcase covers; carburetor jets and nozzles; fuel injectors; timing chain covers; fuel delivery assemblies; rocker arm covers; valve covers; balancer shafts; filter elements; oil pans; gasket shims for gas and diesel engines; hydraulic cylinder assemblies; hydraulic engines; spring motors; fuel pumps and assemblies; compressor assemblies; hydraulic fluid; gas, oil, air, and water pumps and pump assemblies; oil fill pipes; air compressors and assemblies; fans; air conditioners; condensors; heating units; gas, oil, air, and water filters and filter assemblies; cutting blades and packaging machinery guides for agricultural tractors and other off-road vehicles; digital scales; fire extinguishers; sprayers; washer tanks; washer nozzles; jacks for agricultural tractors and other off-road vehicles; self-propelled trucks; conveyor belts for agricultural use; load-lifting equipment; bulldozers; graders; tamping machines; front-end loaders; backhoes; snowplows; tractor implements; tractor attachments; hay equipment; parts for tractor implements; feed preparation equipment; parts for feed equipment; flat panel displays for vehicle information display; electromechanical displays; electrical indicators; hydraulic valves and valve assemblies for agricultural tractors and construction equipment; bearings; steel balls for bearings; roller bearing cups; universal joint assemblies; bushing, bearing, and gear cases; pulleys for agricultural tractors and other off-road vehicles; drive shaft components; oil and dust seals; motors, generators and motor assemblies; commutator parts; discharge ballasts; static converters; power supply parts; permanent magnets; electromagnetic clutches; solenoids; batteries; battery covers and retainers; spark plugs; magnetos; distributors; starter and alternator assemblies; gas controllers and starter systems; light assemblies; safety buzzers; windshield wipers; windshield wiper arm assemblies; electric space heaters; heater blocks; resistors and other heater components; speakers; microphones; radio transmission devices; radar equipment; stereos; radios; vehicle information displays; antennae; lighted indicator panels; indicator panels; condensor assemblies; seals; capacitors; resistors; sensors; variable resistors; circuit boards; circuit breakers; vehicle fuses; relays; switch assemblies; light sockets and light socket assemblies; contactor assemblies; fuse and dashboard assemblies; vehicle connectors; lamps for vehicles; halogen and filament lamps; lamp parts; diodes; vehicle engine control units; vehicle electrical controls; vehicle electrical control center parts; copper winding wire; electrical cables; ignition wire sets; battery cables; wire harnesses; electrodes; electrical insulators; electrical conduits; empty cells for vehicle batteries; battery fixtures; tractors; dump vehicles; tractor bodies; bumpers; seat belt assemblies; seat belt parts for vehicles; vehicle parking locks; transmission components; front axle assemblies; wheels; shock absorbers; radiators; sound mufflers for vehicle engines; clutch assemblies; bearing holders; transmissions; transmission sub-assemblies; brakes; axle covers; brackets; stays; rods; muffler pipe; rod assemblies; flanges; supports; knobs; levers; wiper blades; control wire; control cable; shock absorbers; universal joints; bevel gears; spiral gears; pinion gears; guards; lenses; plates; planetary gears; splines; drive shafts; clutch rod shafts; u-joints; shaft assemblies; collars; differential cases; transmission cases; ball joints; axle cases; gear cases; gear shafts; pins; shims; bushings; drive shaft caps; shaft couplings; steering shafts; shaft yokes; thrust collars; synchronizer rings; dust covers; heater assemblies; tie rods; brackets; battery retainers; control pedals; fuel tanks; hand rails; radiator grilles; bonnet dampers; steering linkages; suspension linkages; muffler stays; struts for agricultural tractors and other off-road vehicles; unmounted glass lenses for vehicle signals and controls; glass lenses for vehicle signals and controls; thermometers; sensors; gauges; oil switches; electrical sensors and liquid and gas sensors; odometers; other panel meters for use in vehicle control; counters for use in vehicles and farm implements; volt meters for vehicle and farm implement controls; other instruments for vehicle and farm implement controls; test benches for vehicle and implement repair; measuring equipment for vehicle control and repair; thermostats; temperature controllers; speed sensors for vehicle control; regulators; rotary switches; seats and seat assemblies; slide rollers for seats; work lamps; toy tractors; brushes for vehicle repair; and, electric lighter covers for agricultural tractors and other off-road vehicles (duty rate ranges from duty-free to 12%). The request indicates that bearings are subject to antidumping/countervailing duty (AD/CVD) orders when imported from certain countries. The FTZ Board's regulations (15 CFR 400.14(e)) require that merchandise subject to AD/CVD orders, or items which would be otherwise subject to suspension of liquidation under AD/CVD procedures if they entered U.S. customs territory, be admitted to the zone in privileged foreign status (19 CFR 146.41).

Public comment is invited from interested parties. Submissions shall be addressed to the Board's Executive Secretary at the address below. The closing period for their receipt is January 3, 2018.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Christopher Wedderburn at Chris.Wedderburn@trade.gov or (202) 482-1963.

Dated: November 17, 2017.
Andrew McGilvray,
Executive Secretary.

[FR Doc. 2017-25399 Filed 11-22-17; 8:45 am]

BILLING CODE 3510-DS-P